DEPARTMENT OF COMMERCE

National Oceanic and Atmospheric Administration

50 CFR Part 300

[241220-0333]

RIN 0648-BN29

International Fisheries; Pacific Tuna Fisheries; 2025-2026 Commercial Fishing Restrictions for Pacific Bluefin Tuna in the Eastern Pacific Ocean

AGENCY: National Marine Fisheries Service (NMFS), National Oceanic and Atmospheric Administration (NOAA), Commerce.

ACTION: Proposed rule; notice of availability of a draft environmental assessment; request for comments.

SUMMARY: NMFS is proposing regulations under the Tuna Conventions Act of 1950, as amended (TCA), to implement Inter-American Tropical Tuna Commission (IATTC) Resolution C-24-02 (Measures for the Conservation and Management of Bluefin Tuna in the Eastern Pacific Ocean) adopted by the IATTC in September 2024. This proposed rule would implement annual and trip limits on United States commercial catch of Pacific bluefin tuna (Thunnus orientalis) (PBF) in the eastern Pacific Ocean (EPO) for 2025-2026. This action is necessary to conserve PBF and for the United States to satisfy its obligations as a member of the IATTC. In accordance with the National Environmental Policy Act (NEPA), NMFS also announces the availability of a draft environmental assessment (EA) that analyzes the potential effects of the associated proposed rule.

DATES: Comments on the proposed rule, draft environmental assessment, and supporting documents must be submitted in writing by January 29, 2025.

ADDRESSES: A plain language summary of this proposed rule is available at https://www.regulations.gov/docket/NOAA-NMFS-2024-0146.

You may submit comments on this document, identified by NOAA-NMFS-2024-0146 or the draft environmental assessment by:

• Electronic Submission: Submit all electronic public comments via the Federal e-Rulemaking Portal. Go to https://www.regulations.gov and enter “NOAA-NMFS-2024-0146” in the Search box. Click on the “Comment” icon, complete the required fields, and enter or attach your comments.

Comments must be submitted electronically to ensure they are received, documented, and considered by NMFS. Comments sent by any other method, to any other address or individual, or received after the end of the comment period, may not be considered. All comments received are a part of the public record and will generally be posted for public viewing on www.regulations.gov without change. All personal identifying information (e.g., name, address, etc.) submitted voluntarily by the sender will be publicly accessible. Do not submit confidential business information, or otherwise sensitive or protected information. NMFS will accept anonymous comments (enter “N/A” in the required fields if you wish to remain anonymous). Please specify whether the comments provided are associated with the proposed rule, draft environmental assessment, or other supporting documents.

Copies of the draft Regulatory Impact Review (RIR) and other supporting documents are available via the Federal eRulemaking Portal: http://www.regulations.gov, docket NOAA-NMFS-2024-0146 or contact Highly Migratory Species Branch, Amanda Munro, NMFS, Amanda.Munro@noaa.gov.

FOR FURTHER INFORMATION CONTACT: Amanda Munro, NMFS, (619) 407-9284, Amanda.Munro@noaa.gov.

SUPPLEMENTARY INFORMATION:

Background on the IATTC

The United States is a member of the IATTC, which was established in 1949 and operates under the Convention for the Strengthening of the Inter-American Tropical Tuna Commission Established by the 1949 Convention between the United States of America and the Republic of Costa Rica (Antigua Convention).

The IATTC consists of 21 member nations and 5 cooperating non-member nations. The IATTC facilitates scientific research into, as well as the conservation and management of, tuna and tuna-like species in the IATTC Convention Area. The IATTC Convention Area is defined as waters of the EPO within the area bounded by the west coast of the Americas and by 50° N latitude, 150° W longitude, and 50° S latitude. The IATTC maintains a scientific research and fishery monitoring program and regularly assesses the status of tuna, shark, and billfish stocks in the EPO to determine appropriate catch limits and other measures to promote sustainable fisheries and prevent overexploitation.

The text of the Antigua Convention can be found here: https://www.iattc.org/PDFFiles/IATTC-Instruments/_English/IATTC_Antigua_Convention%20Jun%202003.pdf.

International Obligations of the United States Under the Convention

As a Party to the Antigua Convention and a member of the IATTC, the United States is legally bound to implement decisions of the IATTC. The TCA, 16 U.S.C. 951 et seq., directs the Secretary of Commerce, in consultation with the Secretary of State and, with respect to enforcement measures, the U.S. Coast Guard, to promulgate such regulations as may be necessary to carry out the United States' obligations under the Antigua Convention, including recommendations and decisions adopted by the IATTC. The authority of the Secretary of Commerce to promulgate such regulations has been delegated to NMFS. All resolutions adopted by the IATTC can be found online: http://iattc.org/ResolutionsActiveENG.htm.

Pacific Bluefin Tuna Stock Status

In 2011, NMFS determined overfishing was occurring on PBF (76 FR 28422, May 17, 2011), which is considered a single Pacific-wide stock. In 2013, based on the results of a stock assessment conducted by the International Scientific Committee for Tuna and Tuna-like Species in the North Pacific Ocean (ISC), NMFS determined that PBF was not only subject to overfishing, but was also overfished (78 FR 41033, July 9, 2013). Subsequently, based on the results of the 2014, 2016, 2018, and 2020 ISC stock assessments, NMFS determined that PBF continued to be overfished and subject to overfishing (See 80 FR 12621, March 10, 2015; 82 FR 18434, April 19, 2017; 84 FR 19905, May 7, 2019; 86 FR 9910, Feb. 17, 2021).

Since 2016, the IATTC and the Northern Committee (NC) to the Western and Central Pacific Fisheries Commission (WCPFC) have held annual joint working group meetings intended to develop a Pacific-wide approach to management of PBF. Joint IATTC-WCPFC NC Working Group (JWG) recommendations have included establishing rebuilding targets and criteria that must be met before considering catch limit increases. Conservation measures adopted by the IATTC and WCPFC have considered the recommendations of the JWG.

At its sixth meeting in 2021, the JWG considered the most recent ISC stock assessment and noted that the initial rebuilding target may have been met early. The JWG recommended the IATTC and WCPFC increase catch limits consistent with the rebuilding plan previously agreed to by the IATTC and WCPFC. Subsequently, the IATTC adopted Resolution C-21-05, which established catch limits consistent with the JWG recommendation. NMFS implemented Resolution C-21-05 through a rulemaking which established catch and trip limits for 2022-2024 (87 FR 47939, August 5, 2022). In 2022, NMFS determined that the stock was still overfished but no longer experiencing overfishing.

In 2024, the ISC stock assessment for PBF determined that the stock had likely met the second rebuilding target 12 years ahead of schedule. NMFS subsequently determined that the stock was no longer overfished. The ISC projected that further catch increases were possible while maintaining the continued growth of the stock.

At its ninth meeting held July 10-14, 2024, the JWG considered the ISC projection scenarios and recommended increasing harvest of PBF. The ISC is currently undertaking a management strategy evaluation (MSE) for PBF to be completed in 2025. The JWG's recommended catch increases are based on an ISC projection scenario that is expected to ensure a greater than 50 percent probability of not overfishing relative to all of the candidate reference points being evaluated in that MSE. The recommended catch increases also result in an increased fishery impact ratio on the stock for the EPO compared to the fishery impact for the western and central Pacific Ocean (WCPO), increasing the EPO fishery's current impact of 17 percent to 21 percent by 2034.

IATTC Pacific Bluefin Tuna Resolutions

The IATTC has adopted PBF catch limits in the Convention Area since 2012. For more information about previous management measures, see the final rules implementing Resolution C-14-06 (80 FR 38986, July 8, 2015), Resolution C-16-08 (82 FR 18704, April 21, 2017), Resolutions C-18-01 and C-18-02 (84 FR 18409, May 1, 2019), Resolution C-20-02 (86 FR 16303, March 29, 2021), and Resolution C-21-05 (87 FR 47939, August 05, 2022).

On August 5, 2022, NMFS published a final rule (87 FR 47939) implementing IATTC Resolution C-21-05 (Measures for the Conservation and Management of Pacific Bluefin Tuna in the Eastern Pacific Ocean). That rule established an initial combined catch limit for 2023-2024 of 1,017 metric tons (mt). It also implemented an initial trip limit of 30 mt, intermediate trip limits of 20 mt and 10 mt, and a low trip limit of 3 mt. These trip limits were designed to adjust seasonally throughout the year as total catch approached the annual limit. However, U.S. vessels did not utilize enough of the annual catch limit to trigger reduced trip limits in 2023 or 2024.

At its 102nd Meeting in September 2024, the IATTC adopted Resolution C-24-02, which establishes catch limits consistent with the 2024 JWG recommendation and determines how the EPO increase will be divided between the United States and Mexico. The Resolution contains catch increases for both Mexico and the United States and adds a footnote allowing up to 10 mt to be caught by members not named in the Resolution, recognizing that other fleets in the EPO have reported small catches of bluefin due to the increased stock abundance. The 2025-2026 biennial catch limit for the United States established in C-24-02 is 1,822 mt, not to exceed 1,285 mt in any one year.

As in previous resolutions, an IATTC member may add to the new catch limit any under-harvest from the previous catch limit in an amount not to exceed 5 percent of the last biennial catch limit. In this case, the United States may add up to 5 percent of 1,017 mt (i.e., 50.85 mt) from 2023-2024 to the 2025-2026 biennial catch limit. From the California Department of Fish and Wildlife reports, NMFS estimates that U.S. commercial vessels will catch less than 335 mt in 2023-2024. Therefore, NMFS projects that the 2025-2026 biennial catch limit will be approximately 1,873 mt. This number will be finalized before publication of the final rule.

Pacific Fishery Management Council Recommendations for the Implementation of Resolution C-24-02

At its November 2024 meeting, the Pacific Fishery Management Council (PFMC) considered advisory body reports and recommended a trip limit scheme similar to the ones implemented for 2021 and 2022-2024, but with higher initial, intermediate, and low trip limits. The annual catch and trip limits proposed in this rule are consistent with the PFMC's recommendation and are described in the next section.

Proposed Regulations for Pacific Bluefin Tuna for 2025-2026

Consistent with recommendations from the PFMC and its advisory bodies at the November 2024 meeting, this proposed rule would establish trip limits for 2025 and 2026 while maintaining an adaptive management approach. The intent behind these trip limits is to encourage U.S. vessel owners and operators to fully utilize the U.S. catch limit while allowing ample opportunity for multiple gear types. Trip limits would adjust seasonally, with the intent to ensure a portion of the annual catch limit remains available to smaller-volume gear types throughout the year. The proposed annual catch and trip limits are described in detail below.

Proposed PBF Management Regime for 2025-2026

The proposed annual catch limit for 2025 is 1,285 mt. The proposed annual catch limit for 2026 is the total cumulative catch in 2025 subtracted from the biennial limit, not to exceed 1,285 mt. The proposed initial trip limit for both 2025 and 2026 is 60 mt and would adjust as follows:

January-June:

• The trip limit decreases to 40 mt if the total catch is within 400 mt of the annual limit.

• The trip limit decreases to 5 mt if the total catch is within 225 mt of the annual limit.

July-September:

• The trip limit decreases to 40 mt if the catch is within 300 mt of the annual limit.

• The trip limit decreases to 5 mt if the total catch is within 175 mt of the annual limit.

October-December:

• The trip limit decreases to 40 mt if the catch is within 200 mt of the annual limit.

• The trip limit decreases to 5 mt if the total catch is within 125 mt of the annual limit.

Under the terms of this proposed rule, NMFS would announce the 2026 annual limit in a notice published in the Federal Register in January or early February 2026. This notice would also be posted on the NMFS website: https://www.fisheries.noaa.gov/west-coast/sustainable-fisheries/pacific-bluefin-tuna-commercial-harvest-status.

The catch and trip limits proposed in this rulemaking represent approximately an 80 percent increase over the current (i.e., 2022-2024) management regime (87 FR 47939, August 5, 2022). This is based on a recent stock assessment and subsequent status determinations which found the PBF stock in the eastern Pacific Ocean is no longer overfished nor subject to overfishing.

Landing Receipt Submission Deadlines

Under California law and regulations, electronic landing receipts (i.e., e-tickets) are required for landings in California and are required to be submitted to the California Department of Fish and Wildlife (DFW) within 3 business days (see California Fish and Game Code section 8046 and 14 California Code of Regulations § 197). Under current Federal regulations (see 50 CFR 300.25(g)(9)), if landing PBF in California, fish landing receipts must be submitted within 24 hours to DFW. This proposed rule would maintain that requirement.

In-Season Action Announcements

Under this proposed rulemaking, NMFS would use available fishery information (i.e., landing receipts) to estimate when the overall catch is expected to reach thresholds at which the agency would reduce the trip limit. NMFS would then make decisions on in-season actions to reduce the trip limit or close the fishery based on those estimates.

Under current Federal regulations (see 50 CFR 300.25(g)(8)), if an in-season action taken under paragraphs is based on overestimate of actual catch, NMFS will reverse that action in the timeliest possible manner, provided NMFS finds that reversing that action is consistent with the management objectives for the affected species. This proposed rule would maintain that requirement.

Under current Federal regulations (see 50 CFR 300.25(g)(7)), NMFS posts a notice on the NMFS website announcing in-season actions to reduce trip limits or close the fishery (https://www.fisheries.noaa.gov/west-coast/sustainable-fisheries/pacific-bluefin-tuna-commercial-harvest-status). In-season actions to reduce trip limits or close the fishery are also announced by email to vessel owners and published in the Federal Register as soon as practicable. In-season actions are effective upon the earlier of either receipt by email of such notice or publication in the Federal Register. This proposed rule would maintain these announcement procedures.

In 2025-2026, if NMFS determines that cumulative catch is expected to meet any of the thresholds described previously (based on landing receipts or other available information), an intermediate or lower trip limit would be imposed by NMFS using the in-season action procedures described previously. Upon the effective date of an in-season action to change trip limits, targeting, retaining on board, transshipping, or landing PBF in the Convention Area in violation of the in-season action would be prohibited, with the exception that any PBF already on board a fishing vessel on the effective date of the notification of in-season action may be retained on board and landed or transshipped within 24 hours after the effective date of the notice. If NMFS determines in 2025 or 2026 that the annual catch limits are expected to be reached, NMFS would close the fishery effective upon the date provided in the notification. The exception allowing any PBF already on board a fishing vessel on the effective date of the notice to be retained, landed, or transshipped would apply, provided they are landed or transshipped within 14 days after the closure date.

Catch Reporting

Under this proposed rulemaking, NMFS would continue to provide updates on PBF catches in the Convention Area to the public via the NMFS website: https://www.fisheries.noaa.gov/west-coast/sustainable-fisheries/pacific-bluefin-tuna-commercial-harvest-status. NMFS would update the website as long as the updates do not disclose confidential information. These updates are intended to help participants in the U.S. commercial fishery plan for reduced trip limits and attainment of annual limits.

Classification

Tuna Conventions Act

The NMFS Assistant Administrator has determined that this proposed rule is consistent with the Tuna Conventions Act and other applicable laws, subject to further consideration after public comment.

National Environmental Policy Act

NMFS addressed NEPA requirements through preparation of an EA that describes the impact on the human environment that would result from implementation of this action. Based on the EA, Regulatory Impact Review, and review of criteria for significance (see 40 CFR 1501.3(b)) and section 7(C) of NOAA's Policies and Procedures for Compliance with National Environmental Policy Act and Related Authorities (Companion Manual for NOAA Administrative Order 216-6A)), no significant effect on the quality of the human environment is anticipated as a result of any of the action alternatives contained in the draft EA. A copy of the draft EA is available from NMFS (see ADDRESSES). This action also announces a public comment period on the draft EA.

Regulatory Flexibility Act

Pursuant to the Regulatory Flexibility Act, 5 U.S.C. 605(b) (RFA), the Chief Counsel for Regulation of the Department of Commerce certified to the Chief Counsel for Advocacy of the Small Business Administration (SBA) that this proposed rule, if adopted, would not have a significant economic impact on a substantial number of small entities. The rationale for this certification follows.

The SBA defines a “small business” (or “small entity”) as one with annual revenue that meets or is below an established size standard. On December 29, 2015, NMFS issued a final rule establishing a small business size standard of $11 million in annual gross receipts for all businesses primarily engaged in the commercial fishing industry (NAICS 11411) for RFA compliance purposes only (80 FR 81194). The $11 million standard became effective on July 1, 2016, and is to be used in place of the U.S. SBA current standards of $20.5 million, $5.5 million, and $7.5 million for the finfish (NAICS 114111), shellfish (NAICS 114112), and other marine fishing (NAICS 114119) sectors of the U.S. commercial fishing industry in all NMFS rules subject to the RFA after July 1, 2016. Id. at 81194.

The proposed action is intended to provide increased fishing opportunity to U.S. fishermen now that the PBF stock is rebuilt, while ensuring that catches remain within the annual and biennial limits. The entities the proposed action would directly affect are U.S. commercial fishing vessels that catch and retain PBF in the IATTC Convention Area (e.g., coastal purse seine vessels and drift gillnet vessels). U.S. commercial catch of PBF from the IATTC Convention Area is primarily made in waters off of California by the coastal pelagic purse seine fleet, which targets PBF opportunistically, and the surface hook-and-line fleet. Other fleets (e.g., California large-mesh drift gillnet and North pacific albacore troll) catch PBF incidentally or in small quantities.

U.S. Coastal Purse Seine Fleet

Coastal purse seiners fish relatively close to shore off of California within the U.S. exclusive economic zone. They primarily target small coastal pelagic species such as Pacific mackerel, Pacific sardine, anchovy, and market squid. These vessels opportunistically target PBF when they enter the coastal waters of the Southern California Bight from May to October. The fleet will also opportunistically target tropical tunas (yellowfin and skipjack) when intrusions of warm water from the south bring these species within range of the fleet.

Since 2006, the average annual revenue per vessel from all finfish fishing activities for the U.S. purse seine fleet that have landed PBF has been far less than $11 million. From 2019-2023, coastal purse seine vessels that caught highly migratory species (HMS) had ex-vessel revenues ranging from less than $20 to $512,956 per vessel per year (based on all species landed). Therefore, all of the vessels in this fleet are considered small businesses. Over the past 5 years, PBF has accounted for 17 percent of the total revenues of the coastal purse seine fleet.

Table 1—Ex-Vessel Revenue of Coastal Purse Seine Vessels That Made Landings of Highly Migratory Species (HMS), by Year: Minimum, Maximum, and Mean
[Data from PacFIN]
| 2019 | 2020 | 2021 | 2022 | 2023
Num. Vessels | 11 | 12 | <5 | 10 | 8
Min | $23 | $7,271 | <$7,000 | $9 | $5,848
Max | $135,549 | $512,956 | <$55,000 | $183,012 | $76,154
Mean | $57,563 | $170,507 | $24,055 | $77,626 | $25,095

Prior to the implementation of a 25 mt trip limit in 2015, coastal purse seine vessels landed an average of 41 mt per trip, and were capable of landing over 70 mt in a single trip. For the years 2022-2024, NMFS implemented a 30 mt trip limit. U.S. purse seine vessels did not utilize enough of the annual catch limit to trigger reduced trip limits in any year between 2022 and 2024. This may be because the 30 mt trip limits imposed were too restrictive for the purse seine fleet with growing schools of PBF. Because the annual and trip limits in 2025-2026 are higher than in recent years (trip limits starting at 60 mt), the proposed action is expected to provide more opportunity to the purse seine fleet when compared to the management of commercial PBF from 2015-2024. Buffer points that reduce trip limits throughout the year are intended to avoid overutilization and ensure that fleets other than purse seine can continue to fish throughout the year.

Catch and trip limits would be higher than the past 5 years of management for this stock, so the proposed rule is expected to provide increased revenue opportunity for this fleet. Purse seine vessels are also able to switch to other species if PBF trip limits decrease or the annual limit approaches. PBF has not been the primary revenue source of this fleet in recent years, and the proposed rule would not affect opportunities to fish other species. NMFS does not expect revenues, costs, or corresponding profitability of coastal purse seine vessels to be significantly altered as a result of this proposed rule.

Surface Hook-and-Line

The surface hook-and-line fishery mainly operates off the coast of California, although some landings occur in Oregon and Washington. The number of surface hook-and-line vessels in the U.S. fleet has ranged from 79-188 in the past 5 years with a mean of 160 total vessels. As the PBF stock has recovered, the hook-and-line fishery has also grown. In 2019, 13 percent of total PBF landings came from the hook-and-line fleet. Hook-and-line PBF landings have since grown to 88 percent of total landings in 2023. Metric tons of PBF caught by this fleet have also steadily increased over the past 5 years, from 36.07 mt in 2019 to 162.63 mt in 2023. However, the catch of PBF per trip in this fleet is relatively small. On average, vessels in this fleet catch only 0.15 mt of PBF per trip.

Ex-vessel revenue of the surface hook-and-line fleet has ranged from less than $20 to $217,660. Therefore, all of the vessels in this fleet are considered small businesses.

Table 2—Ex-Vessel Revenue of Surface Hook-and-Line Vessels That Made HMS Landings, by Year: Minimum, Maximum, and Mean
[Data from PacFIN]
| 2019 | 2020 | 2021 | 2022 | 2023
Num. Vessels | 79 | 111 | 145 | 188 | 178
Min | $48 | $90 | $78 | $9 | $96
Max | $55,264 | $114,851 | $123,740 | $139,529 | $217,660
Mean | $5,106 | $8,215 | $8,915 | $9,487 | $11,505

The catch limits proposed in this rule are higher than the past 5 years of management for this stock, which would provide increased revenue opportunity for this fleet. PBF makes up the majority of this fleet's revenue, but due to the low volume of PBF landings per trip these vessels would not be subjected to reduced trip limits. The trip limit of 5 mt would allow the surface hook-and-line fleet to continue to catch this valuable stock throughout the year, even in a scenario of increased purse seine effort. This proposed rule is expected to increase fishing opportunities for the surface hook-and-line vessels. NMFS does not expect revenues, costs, or corresponding profitability of surface hook-and-line vessels to be significantly altered as a result of this proposed rule.

Other U.S. Fleets That Catch PBF

Other gears known to land PBF include large-mesh drift gillnet, North Pacific albacore troll, and non-HMS fisheries. Since 2006, the average annual ex-vessel revenue for all U.S. vessels that landed PBF in small quantities has been less than $11 million. All of these vessels are considered small businesses.

The number of vessels from these fisheries that have landed PBF have ranged from 14-39 over the past 5 years, with an average of 23 per year. The metric tons of PBF landed by these gears have ranged from 11.38 to 57.15 mt per year, with a mean of 27.34 mt. Revenue from PBF landings by these fleets makes up a small percentage of their total revenue.

The majority of these landings came from the large-mesh drift gillnet fishery (DGN), which targets swordfish and thresher shark and also retains other marketable species. The number of vessels in this fishery has steadily decreased over the past 5 years. The Driftnet Modernization and Bycatch Reduction Act enacted in 2022 will sunset the use of large-mesh drift gillnets after 5 years, which will be December 2027. Landings of PBF from the DGN fleet have ranged from 9.57 mt to 54.74 mt in the past 5 years. DGN gear has never landed PBF in quantities greater than 5 mt in a single trip, so they are not likely to be impacted by any of the proposed trip limits.

Table 3—Ex-Vessel Revenue of Drift Gillnet Vessels, by Year: Minimum, Maximum, and Mean
[Data from PacFIN]
| 2019 | 2020 | 2021 | 2022 | 2023
Num. Vessels | 15 | 12 | 7 | 7 | 5
Min | $617 | $7,959 | $224 | $10,226 | $12,302
Max | $59,127 | $83,447 | $233,929 | $136,880 | $157,287
Mean | $26,842 | $32,117 | $77,787 | $64,052 | $97,690

The proposed rule would establish a trip limit of 5 mt to reduce the possibility of regulatory discards in these fleets as total catch approaches the annual limit. NMFS does not expect revenues, costs, or corresponding profitability of drift gillnet vessels to be significantly altered as a result of this proposed rule.

Overall Expected Economic Impacts of Proposed Regulations and Certification

Pursuant to the RFA and NMFS' December 29, 2015, final rule (80 FR 81194), this certification was developed using NMFS' revised size standards. NMFS considers all entities subject to this action to be small entities as defined by both the former size standards and the revised size standards. The proposed action would likely result in increased fishing opportunities relative to previous years, and would not cause significant negative economic impacts to the affected fishing fleets. Any impact to the income of U.S. vessels is expected to be minor. Because each affected vessel is a small business, there are no disproportionate economic impacts on small entities relative to large entities.

In summary, the proposed action, if adopted, is not expected to have a significant adverse economic impact on the profitability of a substantial number of small entities, or a disproportionate economic effect on small entities relative to large entities. Given these conclusions, an Initial Regulatory Flexibility Analysis is not required and none has been prepared.

Paperwork Reduction Act

This proposed rule does not contain a change to a collection of information requirement for purposes of the Paperwork Reduction Act of 1995 (PRA). The existing collection of information requirements would continue to apply under the following OMB Control Number(s): 0648-0778, Reporting and Notification Requirements in West Coast PBF Fishery.

Notwithstanding any other provision of the law, no person is required to respond to, nor shall any person be subject to a penalty for failure to comply with, a collection of information subject to the requirements of the PRA, unless that collection of information displays a currently valid OMB Control Number.

Executive Order 12866

This proposed rule has been determined to be not significant for purposes of Executive Order 12866.

Executive Order 13175

NMFS has determined that this action would not have a substantial direct effect on one or more Indian Tribes, on the relationship between the Federal Government and Indian Tribes, or on the distribution of power and responsibilities between the Federal Government and Indian Tribes; therefore, consultation with Tribal officials under Executive Order 13175 is not required, and the requirements of sections (5)(b) and (5)(c) of Executive Order 13175 also do not apply. A Tribal summary impact statement under section (5)(b)(2)(B) and section (5)(c)(2)(B) of Executive Order is not required and has not been prepared.

List of Subjects in 50 CFR Part 300

Administrative practice and procedure, Fish, Fisheries, Fishing, Marine resources, Reporting and recordkeeping requirements, Treaties.

Dated: December 20, 2024.
Samuel D. Rauch III,
Deputy Assistant Administrator for Regulatory Programs, National Marine Fisheries Service.

For the reasons set out in the preamble, NMFS proposes to amend 50 CFR part 300 as follows:

PART 300—INTERNATIONAL FISHERIES REGULATIONS

1. The authority citation for part 300, subpart C, continues to read as follows:

Authority: 16 U.S.C. 951 et seq.

2. In § 300.24, revise paragraph (u) to read as follows:

§ 300.24 Prohibitions.

* * * * *

(u) Use a United States commercial fishing vessel in the Convention Area to target, retain on board, transship, or land Pacific bluefin tuna in contravention of § 300.25(g).

* * * * *

3. In § 300.25, revise paragraph (g) to read as follows:

§ 300.25 Fisheries management.

* * * * *

(g) Pacific bluefin tuna (Thunnus orientalis) commercial catch limits, reporting requirements, and in-season action procedures—(1) Biennial catch limit for 2025-2026. The biennial catch limit for 2025-2026 is 1,822 metric tons, plus up to 5 percent of under-harvest from the 2023-2024 biennial catch limit.

(2) Annual catch and trip limits for 2025. For the calendar year 2025, all commercial fishing vessels of the United States combined may capture, retain, transship, or land no more than 1,285 metric tons. A 60 mt trip limit will be in effect until the following criteria are met:

If the time of year is . . . | And NMFS anticipates cumulative catch will be . . . | Then the trip limit will be . . .
(i) January through June | 885 mt | 40 mt.
| 1,060 mt | 5 mt.
(ii) July through September | 985 mt | 40 mt.
| 1,110 mt | 5 mt.
(iii) October through December | 1,085 mt | 40 mt.
| 1,160 mt | 5 mt.

(3) Annual catch and trip limits for 2026. For the calendar year 2026, all commercial fishing vessels of the United States combined may capture, retain, transship, or land no more than the amount caught in 2025 subtracted from the biennial limit, not to exceed 1,285 metric tons.

(i) If the 2026 catch limit is more than 200 metric tons, a 60-metric ton trip limit will be in effect until the following criteria are met:

If the time of year is . . . | And NMFS anticipates cumulative catch will be within . . . | Then the trip limit will be . . .
(A) January through June | 400 mt of the annual limit | 40 mt.
| 225 mt of the annual limit | 5 mt
(B) July through September | 300 mt of the annual limit | 40 mt.
| 175 mt of the annual limit | 5 mt.
(C) October through December | 200 mt of the annual limit | 40 mt.
| 125 mt of the annual limit | 5 mt.

(ii) If the 2026 catch limit is 200 metric tons or less, the trip limit will be 5 metric tons for the entire calendar year.

(4) In-season actions for trip limits and closure of the fishery. If NMFS determines that action to change a trip limit needs to be taken under paragraph (g)(2) or (3) of this section, the revised trip limit will be effective upon the date provided in a notification of in-season action in accordance with paragraph (g)(5) of this section. Upon the effective date of an in-season action to change trip limits under paragraph (g)(2) or (3), targeting, retaining on board, transshipping, or landing Pacific bluefin tuna in the Convention Area in violation of the in-season action shall be prohibited, with the exception that any Pacific bluefin tuna already on board a fishing vessel on the effective date of the notification of in-season action may be retained on board and landed or transshipped within 24 hours after the effective date of the notice, to the extent authorized by applicable laws and regulations. After NMFS determines that the annual catch limits under paragraph (g)(2) or (3) of this section are expected to be reached, NMFS will close the fishery effective upon the date provided in the notification in accordance with paragraph (g)(5) of this section. Upon the effective date in the notification, targeting, retaining on board, transshipping, or landing Pacific bluefin tuna in the Convention Area shall be prohibited through the end of the calendar year, with the exception that any Pacific bluefin tuna already on board a fishing vessel on the effective date of the notice may be retained on board and landed or transshipped within 14 days after the effective date published in the fishing closure notification, to the extent authorized by applicable laws and regulations.

(5) Announcement and effective dates of in-season actions. If in-season actions under paragraphs (g)(2) through (4) of this section are needed, NMFS will post a notice on the NMFS web page announcing the in-season action, including effective dates. NMFS will also send emails with notice of the in-season action to affected vessel owners. This action will also be published in the Federal Register as soon as practicable. The in-season action will be effective upon whichever is earlier: receipt by email of such notice or publication in the Federal Register.

(6) Reversal of in-season actions. If an in-season action taken under paragraphs (g)(2) through (5) of this section is based on overestimate of actual catch, NMFS will reverse that action in the timeliest possible manner, provided NMFS finds that reversing that action is consistent with the management objectives for the affected species. The fishery will be subject to the change in trip limit or reopened effective on the date provided in the notice in accordance with paragraph (g)(5) of this section.

(7) State of California fish landing receipts. If landing Pacific bluefin tuna into the State of California, fish landing receipts must be submitted within 24 hours to the California Department of Fish and Wildlife in accordance with the requirements of applicable State regulations.

[FR Doc. 2024-31315 Filed 12-27-24; 8:45 am]

BILLING CODE 3510-22-P